SECURITIES AND EXCHANGE COMMISSION

Sunshine Act Meeting

FEDERAL REGISTER CITATION OF PREVIOUS ANNOUNCEMENT: 66 FR 38046 (July 20, 2001).

STATUS: Closed meeting.

PLACE: 450 Fifth Street, NW., Washington, DC.

DATE PREVIOUSLY ANNOUNCED: July 17, 2001.

CHANGE IN THE MEETING: Cancellation of Meeting.

The closed meeting scheduled for Thursday, July 19, 2001 at 9 a.m. has been canceled.

Dated: July 19, 2001.
Jonathan G. Katz,
Secretary.

[FR Doc. 01-18374 Filed 7-19-01; 11:09 am]

BILLING CODE 8010-01-M